INTERNATIONAL TRADE COMMISSION

[Inv. No. 337-TA-857]

Certain Reduced Folate Nutraceutical Products and L- Methylfolate Raw Ingredients Used Therein: Notice of Commission Determination Not To Review an Initial Determination Granting Complainants' Unopposed Motion for Leave To Amend the Complaint and Notice of Investigation

AGENCY: U.S. International Trade Commission.

ACTION: Notice.

SUMMARY: Notice is hereby given that the U.S. International Trade Commission has determined not to review an ID (Order No. 4) of the administrative law judge (“ALJ”) granting Complainants' unopposed motion for leave to amend the complaint and notice of investigation in the above-captioned investigation.

FOR FURTHER INFORMATION CONTACT: James A. Worth, Office of the General Counsel, U.S. International Trade Commission, 500 E Street SW., Washington, DC 20436, telephone (202) 205-3065. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on October 16, 2012, based on a complaint filed on September 10, 2012, on behalf of South Alabama Medical Science Foundation of Mobile, Alabama; Merck & Cie of Altdorf, Switzerland; and Pamlab LLC of Covington, Louisiana LLC (collectively, “Complainants”). 77 FR 63336 (October 16, 2012). The complaint alleged violations of Section 337 of the Tariff Act of 1930, as amended, 19 U.S.C. 1337, in the sale for importation, importation, or sale after importation into the United States of certain folate nutraceutical products and l-methylfolate raw ingredients used therein that infringe one or more of claims 37, 39, 40, 47, 66, 67, 73, 76,78-81, 83, 84, 86-89, 91, 92, 94-97, 99, 100, 110, 111, 113, 117, and 121 of U.S. Patent No. 5,997,915 (“the `915 patent”); claims 22, 26, and 32-38 of U.S. Patent No. 6,673,381 (“the `381 patent”); claims l, 4-6, and 15 of U.S. Patent No. 7,172,778; and claims 1-3, 5, 6, 8, 9, 11-15, and 19-22 of U.S. Patent No. 6,011,040 (“the `040 patent”). The Commission's notice of investigation named as respondents Gnosis SpA of Desio, Italy; Gnosis Bioresearch SA of Sant'Antonino, Switzerland; Gnosis USA Inc. of Doylestown, Pennsylvania; and Macoven Pharmaceuticals LLC of Magnolia, Texas.

On November 14, 2012, Complainants filed an unopposed motion for leave to amend the Complaint and Notice of Investigation to add Viva Pharmaceuticals LLC as a respondent in this investigation and to assert additional claims of inducement of infringement with regard the `915 patent, the `381 patent, and the `040 patent against respondents Gnosis SpA, Gnosis Bioresearch SA, and Gnosis USA, Inc. The Complainants argued good cause exists because the alleged activity was not previously known to them, and that there would be no prejudice to the parties or to the public interest.

On November 15, 2012, the ALJ issued the ID, granting the motion. No petitions for review were filed.

Having considered the ID and the relevant portions of the record, the Commission has determined not to review the subject ID.

This action is taken under the authority of section 337 of the Tariff Act of 1930, as amended (19 U.S.C. 1337), and of section 210.42(h) of the Commission's Rules of Practice and Procedure (19 CFR 210.42(h)).

By order of the Commission.
Issued: December 13, 2012.
William R. Bishop,
Supervisory Hearings and Information Officer.

[FR Doc. 2012-31474 Filed 12-31-12; 8:45 am]

BILLING CODE 7020-02-P